DEPARTMENT OF THE INTERIOR

Bureau of Land Management

[14X LLIDC00100 L16530000.IB0000 LA.DM.DI6M0000]

Notice of Mailing/Street Address Change for the BLM-Cottonwood Field Office

AGENCY: Bureau of Land Management, Interior.

ACTION: Notice.

SUMMARY: The mailing/street address for the Bureau of Land Management (BLM) Cottonwood Field Office will be changing from 1 Butte Drive, Cottonwood, Idaho 83522 to 2 Butte Drive, Cottonwood, Idaho 83522.

DATES: The date for the change will be on or about August 26, 2016.

FOR MORE INFORMATION CONTACT: Richard Alvarez, Lead Property Management Specialist, BLM Idaho State Office, (208) 373-3916, ralvarez@blm.gov. Persons who use a telecommunications device for the deaf (TDD) may call the Federal Information Relay Service (FIRS) at 1-800-877-8339 to leave a message or question for Mr. Alvarez. The FIRS is available 24 hours a day, seven days a week.

You will receive a reply during normal business hours.

Authority: Departmental Manual 382, Chapter 2.1.

Peter J. Ditton,
Acting BLM Idaho State Director.

[FR Doc. 2016-21341 Filed 9-2-16; 8:45 am]

BILLING CODE 4310-GG-P